DEPARTMENT OF HOMELAND SECURITY

[Docket No. DHS-2011-0074]

Submission for Review and Comment: “The Menlo Report: Ethical Principles Guiding Information and Communication Technology Research” (“Menlo Report”) for the Department of Homeland Security (DHS), Science and Technology, Cyber Security Division (CSD), Protected Repository for the Defense of Infrastructure Against Cyber Threats (PREDICT)

AGENCY: Science and Technology Directorate, DHS.

ACTION: 60-day Notice and request for comment.

SUMMARY: DHS invites the public to comment on the Menlo Report in support of PREDICT, DHS S&T sponsored work on ethics in Information and Communication Technology Research (ICTR). This notice is to elicit feedback from the public.

DATES: Submit comments on or before February 27, 2012.

ADDRESSES: The Menlo Report may be found at: http://www.cyber.st.dhs.gov/wp-content/uploads/2011/12/MenloPrinciplesCORE-20110915-r560.pdf Interested persons are invited to submit comments, identified by docket number DHS-2011-0074, by accessing Federal eRulemaking Portal: http://www.regulations.gov. Please follow the instructions for submitting comments.

FOR FURTHER INFORMATION CONTACT: DHS S&T CSD, Email Menlo_Report@dhs.gov.

SUPPLEMENTARY INFORMATION: The DHS S&T, CSD is interested in comments applicable to privacy issues and applicability of ethics with respect to human subjects in ICTR.

Overview of This Information Collection

(1) Type of Information Collection: Feedback comments.

(2) Title of the Form/Collection: Science and Technology, “The Menlo Report: Ethical Principles Guiding Information and Communication Technology Research” (“Menlo Report”) review and comments.

(3) Agency Form Number, if any, and the applicable component of the Department of Homeland Security sponsoring the collection: N/A

(4) Affected public who will be asked or required to respond, as well as a brief abstract: Individuals, consisting of federal, state and local law enforcement, private sector and academia practitioners.

(5) An estimate of the total number of respondents and the amount of time estimated for an average respondent to respond:

a. Estimate of the total number of respondents: N/A.

b. An estimate of the time for an average respondent to respond: N/A.

c. An estimate of the total public burden (in hours) associated with the collection: N/A.

Dated: December 14, 2011.
Tara O'Toole,
Under Secretary for Science and Technology.

[FR Doc. 2011-33231 Filed 12-27-11; 8:45 am]

BILLING CODE 9110-9F-P